DEPARTMENT OF THE TREASURY

Community Development Financial Institutions Fund

Change to Notice of Funds Availability Inviting Applications for the Community Development Financial Institutions Program—Technical Assistance Component: Dun and Bradstreet Data Universal Numbering System (DUNS) Number Requirement

AGENCY: Community Development Financial Institutions Fund, Department of the Treasury.

ACTION: Change to notice of funds availability (“NOFA”) inviting applications for the FY 2003 and FY 2004 funding rounds of the technical assistance component of the Community Development Financial Institutions (“CDFI”) Program (incorporating Native American technical assistance): Dun and Bradstreet Data Universal Numbering System (DUNS) number requirement.

SUMMARY: On June 27, 2003, the Office of Management and Budget issued a policy directive requiring all organizations applying for Federal grants or cooperative agreements to obtain and provide a Dun and Bradstreet Data Universal Numbering System (DUNS) number with their applications. This notice is to announce that the Community Development Financial Institutions Fund (the “Fund”) is requiring DUNS numbers for all organizations submitting applications pursuant to the NOFA for the technical assistance component of the CDFI Program (68 FR 5735). If after reviewing an application, the Fund determines that the DUNS number is missing or incomplete, the Fund will notify the Applicant. The Applicant will generally have three (3) business days to provide the requested information. If the Applicant fails to provide the requested information within the three-day deadline, the Fund, in its sole discretion, may reject the application from consideration for a TA or NATA award. All other information and requirements set forth in the February 4, 2003, NOFA for the technical assistance component shall remain effective, as published.

FOR FURTHER INFORMATION CONTACT: If you have any questions about the programmatic requirements for this program, contact the Fund's Program Operations Manager. If you have questions regarding administrative requirements, contact the Fund's Awards Manager. The Program Operations Manager and the Awards Manager may be reached by e-mail at cdfihelp@cdfi.treas.gov, by telephone at (202) 622-6355, by facsimile at (202) 622-7754, or by mail at CDFI Fund, 601 13th Street, NW., Suite 200 South, Washington, DC 20005. These are not toll free numbers.

SUPPLEMENTARY INFORMATION: On June 27, 2003, the Office of Management and Budget (OMB) issued a policy directive to implement the requirement for applicants to provide a Dun and Bradstreet Data Universal Numbering System (DUNS) number when applying for a new award or renewal of an award under Federal grants or cooperative agreements on or after October 1, 2003 (68 FR 38402). The DUNS number will be required on both paper and electronic applications for Federal financial-assistance and cooperative agreements. OMB has indicated that applicant organizations should verify that they have a DUNS number or take the steps necessary to obtain a DUNS number prior to applying for Federal grants or cooperative agreements. Organizations can receive a DUNS number at no cost by calling the dedicated toll-free DUNS Number request line at 1-866-705-5711. Exemptions to the DUNS number requirement may only be obtained from OMB.

Authority: 12 U.S.C. 4703; Chapter X, ­Pub. L. 104-19, 109 Stat. 237.

Dated: March 2, 2004.
Linda G. Davenport,
Deputy Director for Policy and Programs.

[FR Doc. 04-5576 Filed 3-11-04; 8:45 am]

BILLING CODE 4810-70-P